DEPARTMENT OF TRANSPORTATION

Pipeline and Hazardous Materials Safety Administration

[Docket No. PHMSA-2012-0308]

Pipeline Safety: Reporting of Exceedances of Maximum Allowable Operating Pressure

AGENCY: Pipeline and Hazardous Materials Safety Administration (PHMSA); DOT.

ACTION: Notice; Issuance of Advisory Bulletin.

SUMMARY: PHMSA is issuing this Advisory Bulletin to inform owners and operators of gas transmission pipelines that if the pipeline pressure exceeds maximum allowable operating pressure (MAOP) plus the build-up allowed for operation of pressure-limiting or control devices, the owner or operator must report the exceedance to PHMSA on or before the fifth day following the date on which the exceedance occurs. If the pipeline is subject to the regulatory authority of one of PHMSA's State Pipeline Safety Partners, the exceedance must also be reported to the applicable state agency.

FOR FURTHER INFORMATION CONTACT: Cameron Satterthwaite by phone at 202-366-1319 or by email at cameron.satterthwaite@dot.gov. Information about PHMSA may be found at http://www.phmsa.dot.gov.

SUPPLEMENTARY INFORMATION:

I. Background

On January 3, 2012, President Obama signed the Pipeline Safety, Regulatory Certainty, and Job Creation Act of 2011. Section 23 (a) of the Act amended 49 U.S.C. Chapter 601 to add “§ 60139. Maximum allowable operating pressure.” Specifically, § 60139 (b) (2) states:

If there is an exceedance of the maximum allowable operating pressure with respect to a gas transmission pipeline of an owner or operator of a pipeline facility that exceeds the build-up allowed for operation of pressure-limiting or control devices, the owner or operator shall report the exceedance to the Secretary and appropriate State authorities on or before the 5th day following the date on which the exceedance occurs.

This reporting requirement is applicable to all gas transmission pipeline facility owners and operators. In order to comply with this self-executing provision, PHMSA advises owners and operators to submit this information in the same manner as safety-related condition reports (SRCR). The information submitted by owners and operators should comport with the information listed in § 191.25(b), and the reporting methods listed in § 191.25(a) should be employed.

The reporting exemptions for SRCR listed in § 191.23(b) do not apply to the reporting requirement for exceedance of MAOP plus build-up. Specifically, § 191.23(b)(4), which allows for non-reporting if the safety-related condition is corrected by repair or replacement in accordance with applicable safety standards before the deadline for filing the SRCR, does not apply. Gas transmission owners and operators must report the exceedance of MAOP plus build-up regardless of whether the exceedance was corrected before five days have passed.

Finally, owners and operators have five days after occurrence to report exceedance of MAOP plus build-up.

II. Advisory Bulletin (ADB-2012-11)

To: Owners and Operators of Gas Transmission Pipeline Facilities.

Subject: Reporting of Exceedances of Maximum Allowable Operating Pressure.

Advisory: Section 23 of the Pipeline Safety, Regulatory Certainty, and Job Creation Act of 2011 requires owners and operators of gas transmission pipeline facilities to report any exceedance of the maximum allowable operating pressure (MAOP) plus the build-up allowed for operation of pressure-limiting or control devices. This requirement further specifies that such exceedances must be reported within five calendar days of the exceedance. PHMSA is issuing this Advisory Bulletin to notify operators to submit information comparable to that required for Safety-Related Condition reports as outlined in § 191.25(b) for reports of exceedance. The report should be titled “Gas Transmission MAOP Exceedance” and provide the following information:

• The name and principal address of the operator, date of the report, name, job title, and business telephone number of the person submitting the report.

• The name, job title, and business telephone number of the person who determined the condition exists.

• The date the condition was discovered and the date the condition was first determined to exist.

• The location of the condition, with reference to the town/city/county and state or offshore site, and as appropriate, nearest street address, offshore platform, survey station number, milepost, landmark, and the name of the commodity transported or stored.

• The corrective action taken before the report was submitted and the planned follow-up or future corrective action, including the anticipated schedule for starting and concluding such action.

These reports must be submitted within five days of the occurrence using one of the reporting methods described in § 191.25(a). PHMSA is poised to issue a final rule modifying this regulation to include electronic mail (email) as an acceptable reporting method for SRCR.

PHMSA encourages gas transmission owners and operators to report MAOP plus build-up exceedances by emailing information to InformationResourcesManager@dot.gov. Reports may also be submitted by fax to (202) 366-7128.

Issued in Washington, DC, on December 18, 2012.
Alan K. Mayberry,
Deputy Associate Administrator Field Operations.

[FR Doc. 2012-30770 Filed 12-20-12; 8:45 am]

BILLING CODE 4910-60-P